DEPARTMENT OF LABOR

Employment and Training Administration

[TA-W-55,544]

Canteen Vending, Hickory, NC; Notice of Termination of Investigation

Pursuant to Section 221 of the Trade Act of 1974, as amended, an investigation was initiated on September 2, 2004, in response to a worker petition filed by a company official on behalf of workers at Canteen Vending, Hickory, North Carolina.

The petitioner has requested that the petition be withdrawn. Consequently, further investigation would serve no purpose and the investigation has been terminated.

Signed at Washington, DC, this 28th day of September, 2004.
Elliott S. Kushner,
Certifying Officer, Division of Trade Adjustment Assistance.

[FR Doc. 04-22801 Filed 10-8-04; 8:45 am]

BILLING CODE 4510-30-P